DEPARTMENT OF HOMELAND SECURITY

Coast Guard

33 CFR Part 117

[Docket No. USCG-2011-0113]

Drawbridge Operation Regulation; Pocomoke River, Snow Hill, MD

AGENCY: Coast Guard, DHS.

ACTION: Notice of temporary deviation from regulations.

SUMMARY: The Commander, Fifth Coast Guard District, has issued a temporary deviation from the regulations governing the operation of the S12 Bridge across Pocomoke River, mile 29.9, at Snow Hill, MD. The deviation restricts the operation of the draw span to facilitate the cleaning and painting of the bridge.

DATES: This deviation is effective from 7 a.m. on March 15, 2011 through 11:59 p.m. on May 30, 2011.

ADDRESSES: Documents mentioned in this preamble as being available in the docket are part of docket USCG-2011-0113 and are available online by going to http://www.regulations.gov, inserting USCG-2011-0113 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Waverly W. Gregory, Jr., Bridge Administrator, Fifth Coast Guard District; telephone 757-398-6222, e-mail Waverly.W.Gregory@uscg.mil. If you have questions on viewing the docket, call Renee V. Wright, Program Manager, Docket Operations, telephone 202-366-9826.

SUPPLEMENTARY INFORMATION: The Maryland State Highway Administration (SHA), who owns and operates this single leaf bascule drawbridge, has requested a temporary deviation from the current operating schedule to facilitate the cleaning and painting of the structure. Under the regular operating schedule, the bridge opens on signal as required by 33 CFR 117.569(c) if at least five hours advance notice is given.

The S12 Bridge across Pocomoke River, mile 29.9 at Snow Hill MD, has a vertical clearance in the closed position of two feet above mean high water and five feet above mean low water. Under this temporary deviation, the contractor has requested to maintain the bridge in the closed position to vessels from 7 a.m. on March 15, 2011 through 11:59 p.m. on May 30, 2011, to allow for the potential delays caused by anticipated seasonal weather patterns that will interfere with environmental conditions required for sandblasting and painting of the bridge.

Bridge opening data supplied by SHA and reviewed by the Coast Guard revealed vessel openings of the draw span from March 2010 through May 2010. Specifically, the drawbridge opened for vessels a total of 23, 13, and 25 times during the months of March 2010 through May 2010, respectively. We also contacted a nearby canoe shop owner who indicated that he can work around the restrictions.

The Coast Guard has coordinated the restrictions with the local users of the waterway and will inform other users through our Local and Broadcast Notices to Mariners of the closure periods for the bridge so that vessels can arrange their transits to minimize any impact caused by the temporary deviation. There are no alternate routes for vessels transiting this section of the Pocomoke River and the drawbridge will be able to open in the event of an emergency.

In accordance with 33 CFR 117.35(e), the drawbridge must return to its regular operating schedule immediately at the end of the designated time period.

This deviation from the operating regulations is authorized under 33 CFR 117.35.

Dated: February 18, 2011.
Waverly W. Gregory, Jr.,
Chief, Bridge Administration Branch, Fifth Coast Guard District.

[FR Doc. 2011-6879 Filed 3-22-11; 8:45 am]

BILLING CODE 9110-04-P